FEDERAL EMERGENCY MANAGEMENT AGENCY

[FEMA-1347-DR]

Arizona; Amendment No. 2 to Notice of a Major Disaster Declaration

AGENCY: Federal Emergency Management Agency (FEMA).

ACTION: Notice.

SUMMARY: This notice amends the notice of a major disaster for the State of Arizona, (FEMA-1347-DR), dated October 27, 2000, and related determinations.

EFFECTIVE DATE: November 16, 2000.

FOR FURTHER INFORMATION CONTACT: Madge Dale, Response and Recovery Directorate, Federal Emergency Management Agency, Washington, DC 20472, (202) 646-3772.

SUPPLEMENTARY INFORMATION: The notice of a major disaster for the State of Arizona is hereby amended to include the following areas among those areas determined to have been adversely affected by the catastrophe declared a major disaster by the President in his declaration of October 27, 2000:

Pinal County for Individual Assistance and Public Assistance

Gila River Indian Community for Individual Assistance and Public Assistance

Maricopa County for Public Assistance (already designated for Individual Assistance)

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)
Lacy E. Suiter,
Executive Associate Director, Response and Recovery Directorate.

[FR Doc. 00-30076 Filed 11-24-00; 8:45 am]

BILLING CODE 6718-02-P